FEDERAL EMERGENCY MANAGEMENT AGENCY

[FEMA-1309-DR]

U.S. Virgin Islands; Amendment No. 3 to Notice of a Major Disaster Declaration

AGENCY: Federal Emergency Management Agency (FEMA).

ACTION: Notice.

SUMMARY: This notice amends the notice of a major disaster for the U.S. Virgin Islands (FEMA-1309-DR), dated November 23, 1999, and related determinations.

EFFECTIVE DATE: June 9, 2000.

FOR FURTHER INFORMATION CONTACT: Madge Dale, Response and Recovery Directorate, Federal Emergency Management Agency, Washington, DC 20472, (202) 646-3772.

SUPPLEMENTARY INFORMATION: Notice is hereby given that, in a letter dated June 9, 2000, the President concurred with the Director's recommendation to adjust the cost sharing arrangements concerning Federal funds provided under the authority of the Robert T. Stafford Disaster Relief and Emergency Assistance Act (42 U.S.C. 5121 et seq.), and the Insular Areas Act (10 U.S.C. 1469a (d) in a letter to James L. Witt, Director of the Federal Emergency Management Agency, as follows:

I have determined that the damage in the U.S. Virgin Islands, resulting from Hurricane Lenny on November 16-20, 1999, is of sufficient severity and magnitude that special conditions are warranted regarding the cost sharing arrangements for Federal funds provided under the Robert T. Stafford Disaster Relief and Emergency Assistance Act, 42 U.S.C. 5121 et seq. (Stafford Act).

Therefore, I concur with your recommendation to amend my declaration of November 23, 1999 to authorize Federal funds for the Individual and Family Grant, Public Assistance, and Hazard Mitigation Grant Programs at 90 percent of total eligible costs.

Please notify the Federal Coordinating Officer of this amendment to my major disaster declaration.

(The following Catalog of Federal Domestic Assistance Numbers (CFDA) are to be used for reporting and drawing funds: 83.537, Community Disaster Loans; 83.538, Cora Brown Fund Program; 83.539, Crisis Counseling; 83.540, Disaster Legal Services Program; 83.541, Disaster Unemployment Assistance (DUA); 83.542, Fire Suppression Assistance; 83.543, Individual and Family Grant (IFG) Program; 83.544, Public Assistance Grants; 83.545, Disaster Housing Program; 83.548, Hazard Mitigation Grant Program.)

James L. Witt,
Director.

[FR Doc. 00-15501 Filed 6-19-00; 8:45 am]

BILLING CODE 6718-02-P